NATIONAL AERONAUTICS AND SPACE ADMINISTRATION

[Notice (02-079)]

NASA Advisory Council, Biological and Physical Research Committee, Physical Science Advisory Subcommittee (SSUAS); Meeting

AGENCY: National Aeronautics and Space Administration.

ACTION: Notice of meeting location change.

SUMMARY: In accordance with the Federal Advisory Committee, Act, Public Law 92-463, as amended, the National Aeronautics and Space Administration announces a change of location for the meeting of the NASA Advisory Council, Biological and Physical Research Committee, Physical Science Advisory Subcommittee (SSUAS); Notice Number 02-077.

DATES: July 9, 2002, July 10, 2002, and July 12, 2002, 8 a.m. to 5 p.m.

Previously Announced Locations: Center for Advance Space Studies, 3600 Bay Boulevard, Houston, Texas.

Change in the Meeting: The meeting will now be held at the Courtyard Marriott, 3435 North Atlantic Avenue, Cocoa Beach, Florida.

FOR FURTHER INFORMATION CONTACT: Dr. Neal Pellis, Code U, Lyndon B. Johnson Space Center, Houston, Texas, (281) 483-2357

Dated: June 28, 2002.
Sylvia K. Kraemer,
Advisory Committee Management Officer, National Aeronautics and Space Administration.

[FR Doc. 02-16786 Filed 7-3-02; 8:45 am]

BILLING CODE 7510-01-P